DEPARTMENT OF THE INTERIOR

National Park Service

[NPS-WASO-NAGPRA-NPS0039411; PPWOCRADN0-PCU00RP14.R50000]

Notice of Intended Repatriation: Yale Peabody Museum, Yale University, New Haven, CT

AGENCY: National Park Service, Interior.

ACTION: Notice.

SUMMARY: In accordance with the Native American Graves Protection and Repatriation Act (NAGPRA), the Yale Peabody Museum, Yale University, intends to repatriate certain cultural items that meet the definition of unassociated funerary objects and that have a cultural affiliation with the Indian Tribes in this notice.

DATES: Repatriation of the cultural items in this notice may occur on or after April 16, 2025.

ADDRESSES: Professor David Skelly, Director, Yale Peabody Museum, P.O. Box 208118, New Haven, CT 06520-8118, telephone (203) 432-3752, email david.skelly@yale.edu.

SUPPLEMENTARY INFORMATION: This notice is published as part of the National Park Service's administrative responsibilities under NAGPRA. The determinations in this notice are the sole responsibility of the Yale Peabody Museum, and additional information on the determinations in this notice, including the results of consultation, can be found in the summary or related records. The National Park Service is not responsible for the determinations in this notice.

Abstract of Information Available

A total of 44 cultural items have been requested for repatriation.

The four unassociated funerary objects are three lots of shell beads and shell gorgets, and one lot of deer astragali. In 1903, Clarence B. Moore removed the items from a mound at the Crystal River Site (8Ci1) in Citrus County, Florida. Moore donated the items to the Yale Peabody Museum in May 1906.

The one unassociated funerary object is one lot of bone implements. In 1903, Clarence B. Moore removed the items from a mound near Pithlachascotee River (8Pa2) in Pasco County, Florida. Moore donated the items to the Yale Peabody Museum in May 1906.

The two unassociated funerary objects one shell adze and one shell pendant. The items were removed by Walter W. Holmes from a locale described as a small key near John's Pass and Long Bayou in Pinellas County, Florida prior to their receipt at the Yale Peabody Museum in April 1933.

The four unassociated funerary objects are three lots of stamped, incised, and punctuated ceramic sherds, and one fabric-impressed ceramic sherd. In 1941, the items were removed from a provenience on Weedon Island in Pinellas County by H. Gordon Rowe and donated to the Yale Peabody Museum in April 1969 by Mrs. H. Gordon Rowe.

The one unassociated funerary object is a ceramic rim sherd with trace red paint. At an unknown date, Montague Tallant removed the item from a burial mound in Cedar Key in Levy County, Florida and donated the item to the Yale Peabody Museum in October 1944.

The one unassociated funerary object is a ceramic sherd designed within the Weeden Island series. At an unknown date, Montague Tallant removed the collection item from Cayo Pelau (8Ch1) in Charlotte County, Florida and donated the item, through Yale University graduate student, John M. Goggin, to the Yale Peabody Museum in October 1944.

The 31 unassociated funerary objects removed from the Lake Trafford Burial Mound (8Cr80) in Collier County, Florida by Montague Tallant are four lots of ceramic sherds and 27 ceramic sherds. Tallant removed the items prior to 1946 and donated one item to the Yale Peabody Museum in October 1944. The remaining 30 items were donated to the Yale Peabody Museum in a subsequent transaction in October 1946.

Determinations

The Yale Peabody Museum has determined that:

• The 44 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Miccosukee Tribe of Indians; Seminole Tribe of Florida; and The Seminole Nation of Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 16, 2025. If competing requests for repatriation are received, the Yale Peabody Museum must determine the most appropriate requestor prior to repatriation. Requests for joint repatriation of the cultural items are considered a single request and not competing requests. The Yale Peabody Museum is responsible for sending a copy of this notice to the Indian Tribes and Native Hawaiian organizations identified in this notice and to any other consulting parties.

Authority: Native American Graves Protection and Repatriation Act, 25 U.S.C. 3004 and the implementing regulations, 43 CFR 10.9.

Dated: January 23, 2025.
Melanie O'Brien,
Manager, National NAGPRA Program.

[FR Doc. 2025-04195 Filed 3-14-25; 8:45 am]

BILLING CODE 4312-52-P